DEPARTMENT OF COMMERCE

International Trade Administration

[A-570-983]

Drawn Stainless Steel Sinks From the People's Republic of China: Initiation of New Shipper Review

AGENCY: Enforcement and Compliance, formerly Import Administration, International Trade Administration, Department of Commerce.

SUMMARY: The Department of Commerce (the “Department”) has determined that a request for a new shipper review of the antidumping duty order on drawn stainless steel sinks (“drawn sinks”) from the People's Republic of China (“PRC”), received on October 25, 2013, meets the statutory and regulatory requirements for initiation. The period of review (“POR”) of this new shipper review is October 4, 2012, through October 14, 2013.

DATES: Effective Date: December 4, 2013.

FOR FURTHER INFORMATION CONTACT: Joy Zhang, AD/CVD Operations, Office III, Enforcement and Compliance, International Trade Administration, U.S. Department of Commerce, 14th Street and Constitution Avenue NW., Washington, DC 20230; telephone: (202) 482-1168.

SUPPLEMENTARY INFORMATION:

Background

The notice announcing the antidumping duty order on drawn sinks from the PRC was published in the Federal Register on April 11, 2013.¹ On October 25, 2013, we received a timely request for a new shipper review from Foshan Success Imp. & Exp Co., Ltd. (“Success”) in accordance with 19 CFR 351.214(c).² Success identified itself as an exporter of the subject merchandise.

¹ See Drawn Stainless Steel Sinks from the People's Republic of China: Amended Final Determination of Sales at Less Than Fair Value and Antidumping Duty Order, 78 FR 21592 (April 11, 2013).

² See Letter from Success entitled “Drawn Stainless Steel Sinks from the People's Republic of China: New Shipper Review Request,” dated October 25, 2013.

Pursuant to the requirements set forth in section 751(a)(2)(B)(i) of the Tariff Act of 1930, as amended (“the Act”), 19 CFR 351.214(b)(2)(i), 19 CFR 351.214(b)(2)(ii)(A) and 19 CFR 351.214(b)(2)(iii)(A), Success certified that: (1) It did not export drawn sinks to the United States during the period of investigation (“POI”); ³ (2) since the initiation of the investigation, Success has never been affiliated with any company that exported subject merchandise to the United States during the POI; ⁴ and (3) its export activities were not controlled by the central government of the PRC.⁵ Success also provided a certification from the producer, Jiangmen Xinhe Stainless Steel Products Co., Ltd. (“Xinhe”), which certified that Xinhe (1) did not export the subject merchandise to the United States during the POI; and that (2) Xinhe has not been affiliated with any exporter or producer that exported subject merchandise to the United States during the POI, including those not individually examined during the POI.⁶ In accordance with 19 CFR 351.214(b)(2)(iv), Success submitted documentation establishing the following: (1) The date on which it first shipped drawn sinks for export to the United States and the date on which the drawn sinks were first entered, or withdrawn from warehouse, for consumption; ⁷ (2) the volume of its first shipment; ⁸ and (3) the date of its first sale to an unaffiliated customer in the United States.⁹

³ Id., at Exhibit 2.

⁴ Id.

⁵ Id.

⁶ Id., at Exhibit 3.

⁷ Id., at Exhibits 1 and 4.

⁸ Id.

⁹ Id.

Period of Review

Pursuant to 19 CFR 351.214(c), an exporter or producer may request a new shipper review within one year of the date on which its subject merchandise was first entered. Moreover, 19 CFR 351.214(d)(1) states that if the request for the review is made during the six-month period ending with the end of the semiannual anniversary month, the Secretary will initiate a new shipper review in the calendar month immediately following the semiannual anniversary month. Further, 19 CFR 351.214(g)(1)(ii)(B) states that if the new shipper review was initiated in the month immediately following the first semiannual anniversary month, the review will normally cover, as appropriate, entries, exports, or sales during the period from the date of suspension of liquidation under this part to the end of the month immediately preceding the first semiannual anniversary month. Therefore, the Secretary must initiate this review in November and the POR is October 4, 2012, through September 30, 2013.

In this instance, Success's sale of subject merchandise was made during the POR specified by the Department's regulations, but the shipment entered within the thirty days after the end of that POR. When the sale of the subject merchandise occurs within the POR specified by the Department's regulations, but the entry occurs after the POR, the specified POR may be extended unless it would be likely to prevent the completion of the review within the time limits set by the Department's regulations.¹⁰ Additionally, the preamble to the Department's regulations states that both the entry and the sale should occur during the POR, and that under “appropriate” circumstances the Department has the flexibility to extend the POR.¹¹ The Department finds that extending the POR to capture this entry would not prevent the completion of the review within the time limits set by the Department's regulations. Therefore, the Department has extended the POR for the new shipper review of Success by fourteen days.

¹⁰ See 19 CFR 351.214(f)(2)(ii).

¹¹ See Antidumping Duties; Countervailing Duties; Final Rule, 62 FR 27296, 27319-320 (May 19, 1997).

Initiation of New Shipper Review

Pursuant to section 751(a)(2)(B) of the Act and 19 CFR 351.214(d)(2), we find that the request submitted by Success meets the threshold requirements for initiation of a new shipper review for shipments of drawn sinks from the PRC produced by Xinhe and exported by Success. If the information supplied by Success is later found to be incorrect ¹² or insufficient during the course of this proceeding, the Department may rescind the review or apply adverse facts available, depending upon the facts on record. The Department will conduct this review according to the deadlines set forth in section 751(a)(2)(B)(iv) of the Act.

¹² For example, if we find that the producer exported the subject merchandise to the United States, or is affiliated with an exporter or producer that exported to the United States during the POI.

It is the Department's usual practice, in cases involving non-market economies, to require that a company seeking to establish eligibility for an antidumping duty rate separate from the country-wide rate provide evidence of de jure and de facto absence of government control over the company's export activities. Accordingly, included in our questionnaire will be specific questions for ascertaining Success's eligibility for a separate rate. The review will proceed if the responses provide sufficient indication that Success is not subject to either de jure or de facto government control with respect to its exports.

We will instruct CBP to allow, at the option of the importer until the completion of the review, the posting of a bond or security in lieu of a cash deposit for each entry of the subject merchandise exported by Success and produced by Xinhe in accordance with section 751(a)(2)(B)(iii) of the Act and 19 CFR 351.214(e). To assist in its analysis of the bona fides of this company's sales, upon initiation of this new shipper review, the Department will require Success to submit on an ongoing basis complete transaction information concerning any sales of subject merchandise to the United States that were made subsequent to the POR. Interested parties requiring access to proprietary information in this new shipper review should submit applications for disclosure under administrative protective order in accordance with 19 CFR 351.305 and 19 CFR 351.306.

This initiation and notice are in accordance with section 751(a)(2)(B) of the Act and 19 CFR 351.214 and 19 CFR 351.221(c)(1)(i).

Dated: November 27, 2013.
Christian Marsh,
Deputy Assistant Secretary for Antidumping and Countervailing Duty Operations.

[FR Doc. 2013-29022 Filed 12-3-13; 8:45 am]

BILLING CODE 3510-DS-P